DEPARTMENT OF HOUSING AND URBAN DEVELOPMENT

[Docket No. FR-5603-N-72]

Notice of Submission of Proposed Information Collection to OMB Collection of Information From HUD Lead Hazard Control Grantees To Support a Review of the Federal Dust-lead Standards

AGENCY: Office of the Chief Information Officer, HUD.

ACTION: Notice.

SUMMARY: The proposed information collection requirement described below has been submitted to the Office of Management and Budget (OMB) for review, as required by the Paperwork Reduction Act. The Department is soliciting public comments on the subject proposal.

Leaded paint in housing remains as the last major source of lead exposure to young children. Efforts to reduce childhood lead poisoning have focused on controlling lead paint hazards, specifically lead dust and deteriorated lead-based paint. Lead hazard control programs are looking for ways to make this housing safer without placing an undue financial burden on the property owners or tenants. On August 10, 2009, a petition was submitted to EPA www.regulations.gov; search for EPA-HQ-OPPT-2009-0655) to lower the definition of lead-based paint in pre-1978 “target” housing to some value below the current value of 1 mg/cm 2 or 0.5% by weight (42 U.S.C. 4822(c)), and to lower the lead hazard control standards and clearance standards for lead in dust on floors and window sills in such housing and in pre-1978 child-occupied facilities below the current values of 40 and 250 mg/ft 2 (micrograms per square foot), respectively (40 CFR 745.65(b) and 745.227(e)(8)(viii), and 24 CFR 35.1320(b)(2)(i)), and below the current clearance standard for window troughs of 400 mg/ft2 (40 CFR 45.227(e)(8)(viii), and 24 CFR 35.1320(b)(2)(i)). The HUD Secretary may reduce the level that defines lead-based paint in target housing (42 U.S.C. 4822(c)), and the EPA Administrator identifies the leadbased paint hazard standards (15 U.S.C. 2683), and the lead-based paint standard (15 U.S.C.2683), and the lead-based paint standard in child-occupied facilities.

In a response dated October 22, 2009, EPA, writing on behalf of itself and HUD, agreed to study the issues and decide whether the lead hazard standards and/or the lead-based paint standard should be changed, and to collaborate with HUD on this effort. www.epa.gov/oppt/chemtest/pubs/eparesponse. pdf). The Agency and the Department intend to have identical standards for the sake of maximizing their effectiveness in this matter.

One of the issues to be considered is the ability to actually determine “clearance” (a work area is sufficiently clean of lead dust) before allowing reoccupancy. The clearance levels for floors and window sills are the same as the lead hazard standards. This survey will question HUD grantees as to their ability to achieve clearance at the current level for floors and windowsills, and whether it would be technically feasible to achieve clearance at potentially lower levels.

DATES: Comments Due Date: November 15, 2012.

ADDRESSES: Interested persons are invited to submit comments regarding this proposal. Comments should refer to the proposal by name and/or OMB approval Number (2529-Pending) and should be sent to: HUD Desk Officer, Office of Management and Budget, New Executive Office Building, Washington, DC 20503; fax: 202-395-5806. Email: OIRA_Submission@omb.eop.gov; fax: 202-395-5806.

FOR FURTHER INFORMATION CONTACT: Colette Pollard, Reports Management Officer, QDAM, Department of Housing and Urban Development, 451 Seventh Street SW., Washington, DC 20410; email Colette Pollard at Colette. Pollard@hud.gov. or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposed: Collection of Information from HUD Lead Hazard Control Grantees to Support a review of the Federal Dust-lead Standards.

OMB Approval Number: 2529-Pending.

Form Numbers: None.

Description of the need for the information and proposed use: Leaded paint in housing remains as the last major source of lead exposure to young children. Efforts to reduce childhood lead poisoning have focused on controlling lead paint hazards, specifically lead dust and deteriorated lead-based paint. Lead hazard control programs are looking for ways to make this housing safer without placing an undue financial burden on the property owners or tenants. On August 10, 2009, a petition was submitted to EPA www.regulations.gov; search for EPA-HQ-OPPT-2009-0655) to lower the definition of lead-based paint in pre-1978 “target” housing to some value below the current value of 1 mg/cm 2 or 0.5% by weight (42 U.S.C. 4822(c)), and to lower the lead hazard control standards and clearance standards for lead in dust on floors and window sills in such housing and in pre-1978 child-occupied facilities below the current values of 40 and 250 mg/ft 2 (micrograms per square foot), respectively (40 CFR 745.65(b) and 745.227(e)(8)(viii), and 24 CFR 35.1320(b)(2)(i)), and below the current clearance standard for window troughs of 400 mg/ft2 (40 CFR 45.227(e)(8)(viii), and 24 CFR 35.1320(b)(2)(i)). The HUD Secretary may reduce the level that defines lead-based paint in target housing (42 U.S.C. 4822(c)), and the EPA Administrator identifies the leadbased paint hazard standards (15 U.S.C. 2683), and the lead-based paint standard (15 U.S.C. 2683), and the lead-based paint standard in child-occupied facilities. In a response dated October 22, 2009, EPA, writing on behalf of itself and HUD, agreed to study the issues and decide whether the lead hazard standards and/or the lead-based paint standard should be changed, and to collaborate with HUD on this effort. www.epa.gov/oppt/chemtest/pubs/eparesponse.pdf). The Agency and the Department intend to have identical standards for the sake of maximizing their effectiveness in this matter.

One of the issues to be considered is the ability to actually determine “clearance” (a work area is sufficiently clean of lead dust) before allowing reoccupancy. The clearance levels for floors and window sills are the same as the lead hazard standards. This survey will question HUD grantees as to their ability to achieve clearance at the current level for floors and windowsills, and whether it would be technically feasible to achieve clearance at potentially lower levels.

| Number of respondents | Annual responses | × | Hours per response | = | Burden hours
Reporting Burden | 100 | 1 |  | 16 |  | 1,600

Total estimated burden hours: 1,600.

Status: New collection.

Authority: Section 3507 of the Paperwork Reduction Act of 1995, 44 U.S.C. 35, as amended.

Dated: October 10, 2012.
Colette Pollard,
Department Reports Management Officer, Office of the Chief Information Officer.

[FR Doc. 2012-25406 Filed 10-15-12; 8:45 am]

BILLING CODE 4210-67-P